DEPARTMENT OF TRANSPORTATION

Federal Aviation Administration

14 CFR Part 39

[Docket No. FAA-2010-0044; Directorate Identifier 2009-NM-084-AD; Amendment 39-16381; AD 2010-16-04]

RIN 2120-AA64

Airworthiness Directives; The Boeing Company Model 767-200, -300, and -300F Series Airplanes

AGENCY: Federal Aviation Administration (FAA), DOT.

ACTION: Final rule.

SUMMARY: We are adopting a new airworthiness directive (AD) for certain Model 767-200, -300, and -300F series airplanes. This AD requires inspecting to verify the part number of the low-pressure flex-hoses of the flightcrew and supernumerary oxygen system installed under the oxygen mask stowage box at flightcrew and supernumerary oxygen mask locations, and replacing the flex-hose with a new non-conductive low-pressure flex-hose if necessary. This AD results from reports of low-pressure flex-hoses of the flightcrew oxygen system that burned through due to inadvertent electrical current from a short circuit in an adjacent audio select panel. We are issuing this AD to prevent inadvertent electrical current, which can cause the low-pressure flex-hoses used in the flightcrew and supernumerary oxygen systems to melt or burn, resulting in oxygen system leakage and smoke or fire.

DATES: This AD is effective September 9, 2010.

The Director of the Federal Register approved the incorporation by reference of a certain publication listed in the AD as of September 9, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Susan L. Monroe, Aerospace Engineer, Cabin Safety and Environmental Systems Branch, ANM-150S, FAA, Seattle Aircraft Certification Office, 1601 Lind Avenue, SW., Renton, Washington 98057-3356; telephone (425) 917-6457; fax (425) 917-6590.

SUPPLEMENTARY INFORMATION:

Discussion

We issued a notice of proposed rulemaking (NPRM) to amend 14 CFR part 39 to include an airworthiness directive (AD) that would apply to certain Model 767-200, -300, and -300F series airplanes. That NPRM was published in the Federal Register on January 22, 2010 (75 FR 3656). That NPRM proposed to require inspecting to verify the part number of the low-pressure flex-hoses of the flightcrew and supernumerary oxygen system installed under the oxygen mask stowage box at flightcrew and supernumerary oxygen mask locations, and replacing the flex-hose with a new non-conductive low-pressure flex-hose if necessary.

Comments

We gave the public the opportunity to participate in developing this AD. We considered the comments received.

Support for the NPRM

Boeing concurs with the contents of the NPRM. United Airlines and the Air Line Pilots Association, International, (ALPA) both support the intent of the NPRM.

Request To Take Into Account a Non-Procurable Part

United Airlines states that paragraph (g)(1) of the NPRM refers to the Accomplishment Instructions in Boeing Service Bulletin 767-35A0034, Revision 1, dated June 22, 2000, which specifies the use of tape having part number 232T8002-26. United Airlines states that this tape is no longer available. United Airlines states that Boeing has advised them to procure tape having part number 5841007529 instead. United Airlines states that because compliance is mandated in accordance with Boeing Service Bulletin 767-35A0034, this will require all operators to request an alternative method of compliance (AMOC) to use the alternate part numbered tape. United Airlines points out that it has formally asked Boeing to use the term “or equivalent” in their service bulletins when specifying part numbers for such items as tapes, marking pens, and solvents, but Boeing has responded that the FAA expressly forbids them to do so. United Airlines states that this is an on-going problem that leads to nuisance AMOC requests that can be avoided.

From these statements, we infer that United Airlines requests that we revise the NPRM to either specify another tape or add the term “or equivalent,” so that operators will not have to request AMOCs. We disagree with adding the term “or equivalent” to the AD. We have consulted with Boeing regarding this issue. Boeing has stated that tape having part number 232T8002-26 is a valid part number. Boeing states that when the customer receives a part number, the tape only shows the material code. The omission of the part number is being resolved by Boeing. Also, paragraphs 2.C.2.(d) and 2.C.2.(e) of Boeing Service Bulletin 767-35A0034, Revision 1, dated June 22, 2000, describe the tape that is required and can be purchased from Boeing with just a reference to the name of the tape, “3/4 wide Permacel P29.” No change has been made to the AD in this regard.

Request for Clarification Regarding Use of Tape or Sleeving

United Airlines states that there is a disparity between the Accomplishment Instructions of Boeing Service Bulletins 737-35A1053, 747-35A2101, and 757-35A0015, and Boeing Service Bulletin 767-35A0034, Revision 1, dated June 22, 2000, referenced in the NPRM. United Airlines states that Model 747 and 767 airplanes are required to wrap the new hose assemblies with tape or sleeving, but it is not required on Model 737 or 757 airplanes. United Airlines states that the function of this tape or sleeving is to satisfy National Transportation Safety Board (NTSB) Safety Recommendation A-09-47, dated July 8, 2009. United Airlines points out that application of this safety recommendation does not appear to be consistent.

From these statements, we infer that United Airlines requests clarification regarding use of tape or sleeving. We agree that clarification is necessary regarding the use of tape or sleeving on oxygen system tubing. Tape or sleeving is not required on Model 737 or 757 fleets due to acceptable clearance between the oxygen system tubing and electrical wiring. The chafing present in the Model 747 and 767 fleets is not present in the Model 737 or 757 fleet. No change has been made to the AD in this regard.

Request To Revise Costs of Compliance

United Airlines states that it disagrees with the Costs of Compliance section of the NPRM, as it includes only the inspection labor and not the manpower and material costs in the event the hoses must be replaced.

From this statement, we infer that United Airlines is requesting that we revise the Costs of Compliance section of the NPRM to include additional work hours and the cost of replacement parts. We disagree with changing the costs of compliance. The economic analysis of an AD is limited to the cost of actions that are actually required. The economic analysis does not consider the costs of conditional actions, such as replacing a flex-hose detected during a required inspection (“replace, if necessary”). Such conditional repairs would be required—regardless of AD direction—to correct an unsafe condition identified in an airplane and to ensure that the airplane is operated in an airworthy condition, as required by the Federal Aviation Regulations. The cost information describes only the direct costs of the specific actions required by this AD. Based on the best data available, the manufacturer provided the number of work-hours necessary to do the required actions. This number represents the time necessary to perform only the actions actually required by this AD. We recognize that, in doing the actions required by an AD, operators might incur incidental costs in addition to the direct costs. The cost analysis in AD rulemaking actions, however, typically does not include incidental costs such as the time required to gain access and close up. Those incidental costs, which might vary significantly among operators, are almost impossible to calculate. No change has been made to the AD in this regard.

Request To Shorten Compliance Time

ALPA requests that the 36-month compliance time specified in the NPRM be shortened given the potential consequence of an oxygen-fed fire in the vicinity of the flightcrew station.

We do not agree. In developing the compliance time, we considered the safety implications, parts availability, and normal maintenance schedules for timely accomplishment of the inspection. Further, we arrived at the compliance time with manufacturer concurrence. In consideration of all of these factors, we determined that the compliance time, as proposed, represents an appropriate interval in which the inspections can be done in a timely manner within the fleet, while still maintaining an adequate level of safety. Operators are always permitted to accomplish the requirements of an AD at a time earlier than the specified compliance time; therefore, an operator may choose to do the inspection before 36 months in order to accomplish the requirements of this AD. If additional data are presented that would justify a shorter compliance time, we may consider further rulemaking on this issue. We have not changed the AD in this regard.

Conclusion

We reviewed the relevant data, considered the comments received, and determined that air safety and the public interest require adopting the AD as proposed.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 297 airplanes of U.S. registry. We also estimate that it will take 2 work-hours per product to comply with this AD. The average labor rate is $85 per work-hour. Based on these figures, we estimate the cost of this AD to the U.S. operators to be $50,490, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-16-04 The Boeing Company: Amendment 39-16381. Docket No. FAA-2010-0044; Directorate Identifier 2009-NM-084-AD.

Effective Date

(a) This airworthiness directive (AD) is effective September 9, 2010.

Affected ADs

(b) None.

Applicability

(c) This AD applies to The Boeing Company Model 767-200, -300, and -300F series airplanes, certificated in any category; line numbers 1 through 763 inclusive, except line number 758, which was accomplished in production.

Subject

(d) Air Transport Association (ATA) of America Code 35: Oxygen.

Unsafe Condition

(e) This AD results from a report of a low-pressure flex-hose of the flightcrew oxygen system that burned through due to inadvertent electrical current from a short circuit in an adjacent audio select panel. We are issuing this AD to prevent inadvertent electrical current, which can cause the low-pressure flex-hoses used in the flightcrew and supernumerary oxygen systems to melt or burn, resulting in oxygen system leakage and smoke or fire.

Compliance

(f) You are responsible for having the actions required by this AD performed within the compliance times specified, unless the actions have already been done.

Inspection

(g) Within 36 months after the effective date of this AD, do an inspection to determine whether any low-pressure flex-hose of the flightcrew and supernumerary oxygen systems installed under the oxygen mask stowage location has a part number identified in Table 1 of this AD. A review of airplane maintenance records is acceptable in lieu of this inspection if the part number of the low-pressure flex-hoses of the flightcrew and supernumerary oxygen systems can be conclusively determined from that review.

(1) For any hose having a part number identified in Table 1 of this AD, before further flight, replace the hose with a new or serviceable part, in accordance with the Accomplishment Instructions of Boeing Service Bulletin 767-35A0034, Revision 1, dated June 22, 2000.

(2) For any hose not having a part number identified in Table 1 of this AD, no further action is required by this paragraph.

Table 1—Applicable Part Numbers
Boeing specification part No. | Equivalent Boeing supplier part Nos.: Sierra Engineering | Equivalent Boeing supplier part Nos.: Spencer Fluid | Equivalent Boeing supplier part Nos.: Puritan Bennett | Equivalent Boeing supplier part Nos.: Hydraflow
60B50059-70 | 835-01-70 | 9513-20S5-18.0 | ZH784-20 | 38001-70
60B50059-81 | Not applicable | Not applicable | Not applicable | 38001-81
60B50059-94 | Not applicable | Not applicable | Not applicable | 38001-94
60B50059-101 | Not applicable | Not applicable | Not applicable | 38001-101
60B50059-130 | Not applicable | Not applicable | Not applicable | 38001-130

Parts Installation

(h) As of the effective date of this AD, no person may install a flightcrew or supernumerary oxygen hose with a part number identified in Table 1 of this AD on any airplane.

Actions Accomplished According to Previous Issue of Service Bulletin

(i) Actions accomplished before the effective date of this AD in accordance with Boeing Alert Service Bulletin 767-35A0034, dated September 2, 1999, are considered acceptable for compliance with the corresponding actions specified in this AD.

Alternative Methods of Compliance (AMOCs)

(j)(1) The Manager, Seattle Aircraft Certification Office (ACO), FAA, has the authority to approve AMOCs for this AD, if requested using the procedures found in 14 CFR 39.19. Send information to Attn: Susan L. Monroe, Aerospace Engineer, Cabin Safety and Environmental Systems Branch, ANM-150S, FAA, Seattle Aircraft Certification Office, 1601 Lind Avenue, SW., Renton, Washington 98057-3356; telephone (425) 917-6457; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(k) You must use Boeing Service Bulletin 767-35A0034, Revision 1, dated June 22, 2000, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 16, 2010.
Ali Bahrami,
Manager, Transport Airplane Directorate, Aircraft Certification Service.

[FR Doc. 2010-18623 Filed 8-4-10; 8:45 am]

BILLING CODE 4910-13-P